DEPARTMENT OF HEALTH AND HUMAN SERVICES

Centers for Disease Control and Prevention

[30Day-09-09AK]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Audience Analysis for Environmental Health Issues—New—National Center for Environmental Health/Agency for Toxic Substances and Disease Registry (NCEH/ATSDR), Centers for Disease Control and Prevention (CDC).

Background and Brief Description

The health effects associated with climate change include injuries and fatalities related to severe weather events and heat waves, infectious diseases related to changes in vector biology, water and food contamination, and respiratory illness due to increased allergen production. Despite these potentially devastating public health consequences, few in the general public connect climate change with health effects. In general, the majority of Americans associate climate change with nonhuman impacts and environmental problems rather than health effects. They are more likely to be concerned about climate change impacts on plant and animal extinctions rather than on human health. Thus, it is not surprising that few in the general public are well prepared to deal with climate change health effects. The Centers for Disease Control and Prevention (CDC) is interested in developing communication materials to increase the public's awareness and knowledge, and prepare for the potential health effects associated with climate change. To this end, focus groups will be conducted with members of a local California community to understand motivations and factors influencing target audience's decision process. There will also be an emphasis on the health effects, framing devices, and channels that might be most effective for disseminating public health messages and having them motivate the intended audiences. With that in hand it will be possible to identify the most valuable information and optimal strategies for communicating with target audiences.

Focus groups will be conducted with the residents of Santa Rosa, California. During phase one, three exploratory focus groups will be conducted to develop messaging strategies. Results from the exploratory focus groups will be used in the development of preliminary messaging strategies and draft materials. This material will be tested with the target audience during the second phase of research. The second phase will include three materials testing focus groups to determine which materials and messages are most attractive and compelling in terms of educating the public about health effects and promoting preparedness behaviors. Participants will be recruited via standard focus group recruitment methods. Most will come from an existing database (or list) of potential participants maintained by the focus group facility or recruited through local newspapers. There is no cost to respondents.

The total estimated annual burden hours are 117.

Estimated Annualized Burden Hours
Respondents | No. of respondents | No. of responses per respondent | Average burden per response (in hours)
Recruitment screener | 108 | 1 | 5/60
Exploratory Focus Groups | 27 | 1 | 2
Materials Testing Focus Groups | 27 | 1 | 2

Dated: May 15, 2009.
Maryam I. Daneshvar,
Acting Reports Clearance Officer, Centers for Disease Control and Prevention.

[FR Doc. E9-11894 Filed 5-20-09; 8:45 am]

BILLING CODE 4163-18-P